DEPARTMENT OF THE TREASURY

Proposed Collection; Comment Request

September 27, 2005.

The Department of the Treasury, as part of its continuing effort to reduce paperwork and respondent burden, invites the general public and other Federal agencies to take this opportunity to comment on proposed and/or continuing information collections, as required by the Paperwork Reduction Act of 1995, Public Law 104-13. Currently, the Office of the Procurement Executive within the Department of the Treasury is soliciting comments concerning the OMB Control Number 1505-0081, Solicitation of Proposal Information for Award of Public Contracts. Comments regarding this information collection should be addressed to the Treasury Department Clearance Officer, Department of the Treasury, Office of the Procurement Executive, 1500 Pennsylvania Avenue, NW., Washington, DC 20220, (202) 622-6760.

Dates: Written comments should be received on or before December 2, 2005 to be assured of consideration.

Departmental Offices (DO)

OMB Number: 1505-0081.

Form Number: Not applicable.

Type of Review: Extension of a currently approved collection.

Title: Solicitation of Proposal Information for Award of Public Contracts.

Description: This notice provides a request to continue including the designated OMB Control Number on information requested from prospective contractors. The information requested is specific to each acquisition solicitation, and is required for Treasury to evaluate properly the capabilities and experiences of potential contractors who desire to provide the supplies and/or services to be acquired. Evaluation will be used to determine which proposals most benefit the Government.

Current Actions: There are no changes being made to the notice at this time.

Respondents: Businesses and individuals seeking contracting opportunities with the Department of the Treasury.

Estimated Number of Respondents: 14,172.

Estimated Average Time Per Respondent: 29 hours.

Estimated Total Burden Hours: 410,988.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchases of services to provide information.

Clearance Officer: Jean Carter (202) 622-6760, Department of the Treasury, Office of the Procurement Executive, 1500 Pennsylvania Avenue, NW., Washington, DC 20220, jean.carter@do.treas.gov.

Thomas A. Sharpe, Jr.,
Senior Procurement Executive and Deputy Chief Acquisition Officer, U.S. Department of the Treasury.

[FR Doc. 05-19687 Filed 9-30-05; 8:45 am]

BILLING CODE 4810-25-P